DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Alabama: Madison (FEMA Docket No.: B-1829). | Unincorporated Areas of Madison County (17-04-7541P). | The Honorable Dale W. Strong, Chairman, Madison County Commission, 100 North Side Square, Huntsville, AL 35801. | Madison County Public Works Department, 266-C Shields Road, Huntsville, AL 35811. | Aug. 17, 2018 | 010151
Arkansas: Pulaski (FEMA Docket No.: B-1834). | City of Little Rock (18-06-0091P). | The Honorable Mark Stodola, Mayor, City of Little Rock, 500 West Markham Street, Room 203, Little Rock, AR 72201. | Department of Public Works, 701 West Markham Street, Little Rock, AR 72201. | Sep. 4, 2018 | 050181
Connecticut: Fairfield (FEMA Docket No.: B-1834). | City of Norwalk (18-01-0702P). | The Honorable Harry W. Rilling, Mayor, City of Norwalk, 125 East Avenue, Norwalk, CT 06851. | Planning and Zoning Department, 125 East Avenue, Norwalk, CT 06851. | Aug. 17, 2018 | 090012
Florida:
Lee (FEMA Docket No.: B-1834). | City of Sanibel (18-04-1789P). | The Honorable Kevin Ruane, Mayor, City of Sanibel, 800 Dunlop Road, Sanibel, FL 33957. | Planning Department, 800 Dunlop Road, Sanibel, FL 33957. | Aug. 17, 2018 | 120402
Orange (FEMA Docket No.: B-1834). | Unincorporated areas of Orange County (17-04-8126P). | The Honorable Teresa Jacobs, Mayor, Orange County, 201 South Rosalind Avenue, 5th Floor, Orlando, FL 32801. | Orange County Storm Water Management Department, 4200 South John Young Parkway, Orlando, FL 32839. | Aug. 17, 2018 | 120179
Pinellas (FEMA Docket No.: B-1834). | City of Dunedin (18-04-2226P) | Ms. Jennifer K. Bramley, Manager, City of Dunedin, 542 Main Street, Dunedin, FL 34698. | Planning and Development Department, 737 Louden Avenue, 2nd Floor, Dunedin, FL 34698. | Sep. 4, 2018 | 125103
Polk (FEMA Docket No.: B-1834). | Unincorporated areas of Polk County (17-04-4685P). | The Honorable R. Todd Dantzler, Chairman, Polk County Board of Commissioners, 330 West Church Street, Bartow, FL 33831. | Polk County Land Development Division, 330 West Church Street, Bartow, FL 33831. | Aug. 16, 2018 | 120261
St. Johns (FEMA Docket No.: B-1834). | Unincorporated areas of St. Johns County (18-04-2537P). | The Honorable Henry Dean, Chairman, St. Johns County Board of Commissioners, 500 San Sebastian View, St. Augustine, FL 32084. | St. Johns County Building Services Division, 4040 Lewis Speedway, St. Augustine, FL 32084. | Aug. 31, 2018 | 125147
Sarasota (FEMA Docket No.: B-1834). | Unincorporated areas of Sarasota County (18-04-2558P). | The Honorable Nancy Detert, Chair, Sarasota County Board of Commissioners, 1660 Ringling Boulevard, Sarasota, FL 34236. | Sarasota County Building and Development Services Department, 1001 Sarasota Center Boulevard, Sarasota, FL 34240. | Aug. 24, 2018 | 125144
Volusia (FEMA Docket No.: B-1834). | City of Daytona Beach (18-04-2080P). | The Honorable Derrick L. Henry, Mayor, City of Daytona Beach, 301 South Ridgewood Avenue, Suite 200, Daytona Beach, FL 32114. | Utilities Department, 125 Basin Street, Suite 131, Daytona Beach, FL 32114. | Aug. 28, 2018 | 125099
Kentucky:
Owsley (FEMA Docket No.: B-1834). | City of Booneville (17-04-7624P). | The Honorable Charles Long, Mayor, City of Booneville, P.O. Box 1, Booneville, KY 41314. | City Hall, 46 South Mulberry Street, Booneville, KY 41314. | Aug. 31, 2018 | 210187
Owsley (FEMA Docket No.: B-1834). | Unincorporated areas of Owsley County (17-04-7624P). | The Honorable Cale Turner, Owsley County Judge Executive, P.O. Box 749, Booneville, KY 41314. | Owsley County Courthouse, 201 Court Street, Booneville, KY 41314. | Aug. 31, 2018 | 210296
Maine: Lincoln (FEMA Docket No.: B-1834). | Town of Bristol (17-01-2489P). | The Honorable Chad Hanna, Chairman, Town of Bristol Board of Selectmen, P.O. Box 339, Bristol, ME 04539. | Code Enforcement Department, 1268 Bristol Road, Bristol, ME 04539. | Aug. 17, 2018 | 230215
Massachusetts: Essex (FEMA Docket No.: B-1834). | City of Newburyport (18-01-0751P). | The Honorable Donna D. Holaday, Mayor, City of Newburyport, 60 Pleasant Street, Newburyport, MA 01950. | Department of Planning and Development, 60 Pleasant Street, Newburyport, MA 01950. | Aug. 31, 2018 | 250097
North Carolina: Union (FEMA Docket No.: B-1834). | Town of Waxhaw (18-04-1304P). | The Honorable Stephen Maher, Mayor, Town of Waxhaw, P.O. Box 6, Waxhaw, NC 28173. | Town Hall, 1150 North Broome Street, Waxhaw, NC 28173. | Aug. 25, 2018 | 370473
North Dakota:
Pembina (FEMA Docket No.: B-1829). | City of Pembina (17-08-0738P). | The Honorable Kyle Dorion, Mayor, City of Pembina, 152 West Rolette Street, Pembina, ND 58271. | City Hall, 152 West Rolette Street, Pembina, ND 58271. | Aug. 16, 2018 | 385368
Pembina (FEMA Docket No.: B-1829). | Unincorporated areas of Pembina County (17-08-0738P). | The Honorable Jim Benjaminson, Chairman, Pembina County Board of Commissioners, 301 Dakota Street West, Cavalier, ND 58220. | Pembina County Emergency Operations Department, 308 Courthouse Drive, Cavalier, ND 58220. | Aug. 16, 2018 | 380079
Pennsylvania: Montgomery (FEMA Docket No.: B-1834). | Borough of North Wales (18-03-0693P). | Ms. Christine A. Hart, Borough of North Wales Manager, 300 School Street, North Wales, PA 19454. | Zoning Department, 300 School Street, North Wales, PA 19454. | Aug. 23, 2018 | 420704
Texas:
Bexar (FEMA Docket No.: B-1834). | City of San Antonio (17-06-4239P). | The Honorable Ron Nirenberg, Mayor, City of San Antonio, P.O. Box 839966, San Antonio, TX 78283. | Transportation and Capital Improvements Department, Stormwater Division, 1901 South Alamo Street, 2nd Floor, San Antonio, TX 78204. | Aug. 20, 2018 | 480045
Bexar (FEMA Docket No.: B-1834). | Unincorporated areas of Bexar County (17-06-4239P). | The Honorable Nelson W. Wolff, Bexar County Judge, 101 West Nueva Street, 10th Floor, San Antonio, TX 78205. | Bexar County Public Works Department, 233 North Pecos-La Trinidad Street, Suite 420, San Antonio, TX 78207. | Aug. 20, 2018 | 480035
Denton (FEMA Docket No.: B-1834). | City of Denton (18-06-0064P). | The Honorable Chris A. Watts, Mayor, City of Denton, 215 East McKinney Street, Suite 100, Denton, TX 76201. | Engineering Department, 901-A Texas Street, Denton, TX 76509. | Aug. 23, 2018 | 480194
Denton (FEMA Docket No.: B-1834). | Town of Shady Shores (18-06-0064P). | The Honorable Cindy Aughinbaugh, Mayor, Town of Shady Shores, 101 South Shady Shores Road, Shady Shores, TX 76208. | Planning and Zoning Department, 101 South Shady Shores Road, Shady Shores, TX 76208. | Aug. 23, 2018 | 481135
Denton (FEMA Docket No.: B-1834). | Unincorporated areas of Denton County (18-06-0064P). | The Honorable Mary Horn, Denton County Judge, 110 West Hickory Street, 2nd Floor, Denton, TX 76201. | Denton County Public Works and Planning Department, 1505 East McKinney Street, Suite 175, Denton, TX 76209. | Aug. 23, 2018 | 480774
Hays (FEMA Docket No.: B-1834). | City of Kyle (17-06-4031P). | The Honorable Travis Mitchell, Mayor, City of Kyle, P.O. Box 40, Kyle, TX 78640. | Storm Drainage and Flood Risk Mitigation, Utility Department, 100 West Center Street, Kyle, TX 78640. | Aug. 16, 2018 | 481108
Hays (FEMA Docket No.: B-1834). | Unincorporated areas of Hays County (17-06-4031P). | The Honorable Bert Cobb, Hays County Judge, 111 East San Antonio Street, Suite 300, San Marcos, TX 78666. | Hays County Development Services Department, 2171 Yarrington Road, San Marcos, TX 78666. | Aug. 16, 2018 | 480321
Johnson (FEMA Docket No.: B-1834). | City of Burleson (17-06-4103P). | Mr. Dale Cheatham, Manager, City of Burleson, 141 West Renfro Street, Burleson, TX 76028. | City Hall, 141 West Renfro Street, Burleson, TX 76028. | Sep. 4, 2018 | 485459
Tarrant (FEMA Docket No.: B-1834). | City of Crowley (17-06-4103P). | The Honorable Billy P. Davis, Mayor, City of Crowley, 201 East Main Street, Crowley, TX 76036. | City Hall, 201 East Main Street, Crowley, TX 76036. | Sep. 4, 2018 | 480591
Tarrant (FEMA Docket No.: B-1840). | City of Fort Worth (17-06-4215P). | The Honorable Betsy Price, Mayor, City of Fort Worth, 200 Texas Street, Fort Worth, TX 76102. | Transportation and Public Works Department, 200 Texas Street, Fort Worth, TX 76102. | Aug. 16, 2018 | 480596
Tarrant (FEMA Docket No.: B-1840). | City of Mansfield (17-06-4321P). | The Honorable David L. Cook, Mayor, City of Mansfield, 1200 East Broad Street, Mansfield, TX 76063. | City Hall, 1200 East Broad Street, Mansfield, TX 76063. | Aug. 16, 2018 | 480606
Utah: Washington (FEMA Docket No.: B-1834). | City of St. George (18-08-0075P). | The Honorable Jonathan T. Pike, Mayor, City of St. George, 175 East 200 North, St. George, UT 84770. | City Hall, 175 East 200 North, St. George, UT 84770. | Aug. 30, 2018 | 490177
West Virginia:
Lincoln (FEMA Docket No.: B-1834). | Town of Hamlin (17-03-2229P). | The Honorable David Adkins, Mayor, Town of Hamlin, 220 Main Street, Hamlin, WV 25523. | Lincoln County Courthouse, 8000 Court Avenue, Hamlin, WV 25523. | Aug. 16, 2018 | 540089
Lincoln (FEMA Docket No.: B-1834). | Unincorporated areas of Lincoln County (17-03-2229P). | The Honorable Charles N. Vance, President, Lincoln County Commission, P.O. Box 497, Hamlin, WV 25523. | Lincoln County Courthouse, 8000 Court Avenue, Hamlin, WV 25523. | Aug. 16, 2018 | 540088
Logan (FEMA Docket No.: B-1834). | City of Logan (17-03-2459P). | The Honorable Serafino J. Nolletti, Mayor, City of Logan, 219 Dingess Street, Logan, WV 25601. | City Hall, 219 Dingess Street, Logan, WV 25601. | Aug. 20, 2018 | 545535
Logan (FEMA Docket No.: B-1834). | Unincorporated areas of Logan County (17-03-2459P). | The Honorable Danny R. Godby, President, Logan County Commission, 300 Stratton Street, Logan, WV 25601. | Logan County Code Enforcement Officer's Office, 300 Stratton Street, Logan, WV 25601. | Aug. 20, 2018 | 545536

[FR Doc. 2018-21012 Filed 9-26-18; 8:45 am]

BILLING CODE 9110-12-P